DEPARTMENT OF THE INTERIOR

Bureau of Land Management

[LLCA930000 L192000000 ET0000.LROBRX1210500; CACA 044081]

Notice of Proposed Expansion, Extension, and Notification of a Public Meeting for the Chocolate Mountain Aerial Gunnery Range Withdrawal; CA

AGENCY: Bureau of Land Management, Interior.

ACTION: Notice.

SUMMARY: Pursuant to section 808 of the California Military Lands Withdrawal and Overflight Act of 1994 (Act), the Department of the Navy (DoN), on behalf of the U.S. Marines, has filed an application to modify and extend the current legislative withdrawal of public lands from all forms of appropriation under the public land laws, including the mining laws, the mineral leasing laws, and the geothermal leasing laws, for military use of the Chocolate Mountain Aerial Gunnery Range (CMAGR) in Imperial and Riverside Counties, California. The lands are currently withdrawn under the Act, which is a part of the California Desert Protection Act, which reserves these lands for defense-related purposes for a period of 20 years. Unless Congress extends the withdrawal, it will expire on October 30, 2014. The extension application includes a request that additional Federal lands be withdrawn in aid of a proposed legislative adjustment to the boundary for the purpose of improving management. This notice gives an opportunity for the public to comment on the proposed withdrawal expansion and extension and announces the date, time, and location of a public meeting.

DATES: Comments must be received on or before June 25, 2013. The BLM will hold a public meeting in connection with the proposed withdrawal extension on April 25, 2013. For the time and location, please see SUPPLEMENTARY INFORMATION below.

ADDRESSES: Comments should be sent to Cynthia Staszak, Assistant Deputy State Director, Natural Resources (CA-930), California Bureau of Land Management, 2800 Cottage Way, Suite 1834, Sacramento, CA 95825-1886.

FOR FURTHER INFORMATION CONTACT: Elizabeth Easley, Realty Specialist, 916-978-4673. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The Act provides that the DoN may seek an extension of the CMAGR withdrawal and requires the Secretary of the Navy both to submit an application to extend the withdrawal to the Secretary of the Interior for processing in accordance with the Bureau of Land Management's (BLM) regulations pertaining to withdrawals, and to publish a Draft Legislative Environmental Impact Statement (EIS) addressing legislative alternatives and the effects of continued withdrawal. The CMAGR Draft Legislative EIS, published on August 31, 2012, is available at www.chocolatemountainrenewal.com. The Department of the Navy's Notice of Availability can be found at 77 FR 53189. The Draft Legislative EIS evaluates the environmental effects of extending the withdrawal for an additional 25 years, as well as expanding the area withdrawn in order to facilitate restructuring the existing range boundary to improve efficiency in the management of the CMAGR and adjacent lands, safeguard public use of adjacent public lands, and consolidate the lands for more efficient environmental stewardship. As a result of the proposed boundary restructuring, Federal and non-Federal lands may be added to the existing withdrawal.

This notice temporarily segregates the additional 24,700 acres Federal lands from all forms of appropriation under the public land laws, including the United States mining laws, and from the operation of the mineral and geothermal leasing laws, and the Mineral Materials Act of 1947, for up to 2 years while the legislative withdrawal application is being processed. Approximately 24,700 acres of Federal lands may be added to the existing 225,100 acre withdrawal. This notice also invites the public to comment on the proposed extension and expansion of the CMAGR withdrawal, and initiates a 90-day comment period on the withdrawal extension/expansion application. The lands involved in the application are:

Federal Lands Currently Withdrawn

San Bernardino Meridian

T. 13 S., R. 18 E.,

Secs. 1 to 6, inclusive, unsurveyed;

Sec. 8, E½, unsurveyed;

Secs. 9, 10, and 11, unsurveyed.

T. 12 S., R. 16 E.,

Secs. 2 and 12.

T. 12 S., R. 17 E.,

Secs. 2, 4, 6, 8, 10, 12, 13, and 14;

Sec. 15, S½;

Sec. 17, S½;

Secs. 18, 20 to 28, inclusive, and 35.

T. 12 S., R. 18 E.,

Secs. 2, 4, 6, 8, and 10;

Secs. 12 to 15, inclusive;

Secs. 17 to 35, inclusive.

T. 12 S., R. 19 E.,

Secs. 2, 4, 6, 8, and 10;

Sec. 15, S½;

Sec. 17, S½;

Secs. 18 to 22, inclusive, and 27 to 34, inclusive.

T. 11 S., R. 15 E.,

Secs. 2 and 12.

T. 11 S., R. 16 E.,

Secs. 2, 4, 6, 8, 10, 12, 14, 18, 20, 22, 24, 26, 28, and 34.

T. 11 S., R. 17 E.,

Secs. 2, 4, 6, 8, 10, 12, 14, 18, 20, 22, 24, 26, 28, 30, 32, and 34.

T. 11 S., R. 18 E.,

Secs. 2, 4, 6, 8, 10, 12, 14, 18, 20, 22, 24, 26, 28, 30, 32, and 34.

T. 11 S., R. 19 E.,

Secs. 4, 6, 8, 10, 14, 18, 20, 22, 26, 28, 30, 32, and 34.

T. 10 S., R. 14 E.,

Secs. 2 and 4;

Sec. 6, lots 3, 4, 5, 9, 10, and 11; those portions lying northeasterly of the most easterly line of the Coachella Branch of the All American Canal;

Sec. 8, N½NE¼ and SE¼NE¼; those portions lying northeasterly of the most easterly line of the Coachella Branch of the All American Canal;

Sec. 10, that portion lying northeasterly of the most easterly line of the Coachella Branch of the All American Canal;

Secs. 12 and 14;

Sec. 22, N½NE¼ and SE¼NE¼;

Sec. 24.

T. 10 S., R. 15 E.,

Secs. 2, 4, 6, 8, 10, 12, 14, 18, 20, 22, 24, 26, 28, 30, and 34.

T. 10 S., R. 16 E.,

Secs. 2, 4, 6, 8, 10, 12, 14, 18, 20, 22, and 24;

Sec. 25, S½SW¼ and SW¼SE¼;

Secs. 26, 28, 30, 32, and 34.

T. 10 S., R. 17 E.,

Secs. 2, 4, 6, 8, 10, 12, 14, 18, 20, 22, 24, 26, 28, 30, 32, and 34.

T. 10 S., R. 18 E.,

Secs. 6, 8, 18, 20, 22, 26, 28, 30, 32, and 34.

T. 10 S., R. 19 E.,

Sec. 32.

T. 9 S., R. 13 E.,

Secs. 2, 4, 6, 8, 10, 12, and 14;

Sec. 18, N½NE¼, SE¼NE¼, those portions lying northeasterly of the most easterly line of the Coachella Branch of the All American Canal;

Sec. 20, N½NE¼, that portion lying northeasterly of the most easterly line of the Coachella Branch of the All American Canal;

Sec. 22, N½, SE¼ and N½ SW¼, those portions lying northeasterly of the most easterly line of the Coachella Branch of the All American Canal;

Sec. 24;

Sec. 26, NE¼, N½NW¼, SE¼NW¼ and N½SE¼, those portions lying northeasterly of the most easterly line of the Coachella Branch of the All American Canal.

T. 9 S., R. 14 E.,

Secs. 2, 4, 6, 8, 10, 12, 14, 18, 20, 22, 24, 26, 28, 30, 32, and 34.

T. 9 S., R. 15 E.,

Secs. 2, 4, and 6;

Sec. 5, N½ lot 5, SE¼SW¼ lot 7, N½NW¼ lot 7, and N½NW¼ lot 9;

Secs. 8 and 10;

Sec. 11, N½SE¼ and S½NE¼SW¼;

Secs. 12, 14, 18, 20, 22, 24, 26, 28, 30, 32, and 34.

T. 9 S., R. 16 E.,

Secs. 2, 4, 6, 8, and 10;

Sec. 12, NW ¼, that portion lying northerly of the northerly line of the Niland Blythe Road;

Sec. 14, SW¼NE¼, NW¼, and S½;

Secs. 18, 20, 22, 24, 26, 28, 30, 32, and 34.

T. 9 S., R. 17 E.,

Sec. 6, lots 1 and 2 of the NW¼, those portions lying westerly of the westerly line of the unnamed road running southwesterly from the Bradshaw Trail to Niland Blythe Road;

Sec. 26;

Sec. 28, NE¼NE¼, S½NE¼, and S½;

Secs. 30, 32, and 34.

T. 8 S., R. 12 E.,

Sec. 2 and 4, those portions lying southerly of the southerly line of the Bradshaw Trail;

Sec. 6, E½E½, that portion lying northeasterly of the most easterly line of the Coachella Branch of the All American Canal and southerly of the southerly line of the Bradshaw Trail;

Sec. 8, that portion lying northeasterly of the most easterly line of the Coachella Branch of the All American Canal;

Secs. 10, 12, and 14;

Sec. 22, that portion lying northeasterly of the most easterly line of the Coachella Branch of the All American Canal;

Sec. 24;

Sec. 26, lots 1, 2, 3 and 4, W½E½, NW¼, N½SW¼, those portions lying northeasterly of the most easterly line of the Coachella Branch of the All American Canal.

T. 8 S., R. 13 E.,

Secs. 2, 4, 6, 8, 10, 12, 14, 18, 20, 22, 24, 26, 28, 30, 32, and 34.

T. 8 S., R. 14 E.,

Secs. 2, 4, 6, 8, 10, 12, 14, 18, 20, 22, 24, 26, 28, 30, 32, and 34.

T. 8 S., R. 15 E.,

Sec. 2, that portion lying southerly of the southerly line of the Bradshaw Trail;

Secs. 4, 6, 8, and 10;

Sec. 11, N½NE¼SE¼NE¼, NW¼SE¼NE¼, S½NE¼NE¼, NW¼, and E½NE¼SW¼;

Sec. 12, that portion lying southerly of the southerly line of the Bradshaw Trail;

Secs. 14, 18, 20, 22, 24, 26, 28, 30, 32, and 34.

T. 8 S., R. 16 E.,

Sec. 8, unsurveyed SW¼NE¼, S½NW¼, and S½, those portions lying southerly of the southerly line of the Bradshaw Trail;

Sec. 14, unsurveyed SW¼SW¼, that portion lying southwesterly of the southerly line of the Bradshaw Trail;

Secs. 18, 20, and 22;

Sec. 24, unsurveyed SW¼SW¼, that portion lying southerly of the southerly line of the Bradshaw Trail;

Secs. 26, 28, 30, 32, and 34.

T. 8 S., R. 17 E.,

Sec. 32, SW¼, that portion lying southerly of the southerly line of the Bradshaw Trail and westerly of the westerly line of the unnamed road running southwesterly from the Bradshaw Trail to Niland Blythe Road.

T. 7 S., R. 12 E.,

Sec. 34, SE¼SE¼, that portion lying southeasterly of the southerly line of the Bradshaw Trail.

T. 7 S., R. 13 E.,

Sec. 22, NE¼ and S½, those portions lying southeasterly of the southerly line of the Bradshaw Trail;

Secs. 24 and 26;

Sec. 28, that portion lying southerly of the southerly line of the Bradshaw Trail;

Sec. 32, that portion lying southeasterly of the southerly line of the Bradshaw Trail;

Sec. 34.

T. 7 S., R. 14 E.,

Sec. 20, SW¼SW¼, that portion lying southerly of the southerly line of the Bradshaw Trail;

Sec. 26, S½, that portion lying southerly of the southerly line of the Bradshaw Trail;

Sec. 28, S½, that portion lying southerly of the southerly line of the Bradshaw Trail;

Secs. 30, 32, and 34.

T. 7 S., R. 15 E.,

Sec. 30, lot 4, SE¼SW¼, and S½SE¼, those portions lying southerly of the southerly line of the Bradshaw Trail;

Sec. 31, N½SE¼NW¼, N½SW¼SE¼NW¼, NW¼SE¼SE¼NW¼, W½NE¼SE¼SE¼NW¼, S½NE¼SW¼NW¼, SW¼SW¼NW¼, and N½NW¼NE¼SW¼;

Sec. 32, that portion lying southerly of the southerly line of the Bradshaw Trail;

Sec. 33, N½SE¼, N½SW¼NW¼SW¼NW¼, and SW¼SW¼NW¼SW¼NW¼, those portions lying southerly of the southerly line of the Bradshaw Trail;

Sec. 34, W½SW¼ and SE¼SW¼, those portions lying southerly of the southerly line of the Bradshaw Trail.

The current withdrawn lands to be extended aggregate 225,100 acres, more or less, in Riverside and Imperial Counties.

The following described Federal lands are being incorporated into the exterior boundaries of the CMAGR:

New Federal Lands Proposed for Withdrawal, and Segregated by this Notice

San Bernardino Meridian

T. 13 S., R. 17 E.,

Secs. 1 and 2, those portions lying northeasterly of the northerly right-of-way of Union Pacific Railroad.

T. 13 S., R. 17½ E.,

Secs. 1, 2, 3, 11, and 12, unsurveyed, those portions lying northeasterly of the northerly right-of-way of Union Pacific Railroad.

T. 13 S., R. 18 E.,

Sec. 7, unsurveyed;

Sec. 8, unsurveyed, W½;

Sec. 15, unsurveyed, that portion lying westerly of the westerly line of the westerly branch and the primary trail Sway of Bureau of Land Management Road 607;

Sec. 17 unsurveyed;

Secs. 18, 19, and 20, unsurveyed, those portions lying northeasterly of the northerly right-of-way of Union Pacific Railroad;

Sec. 21, unsurveyed;

Sec. 22, unsurveyed, that portion lying westerly of the westerly line of Bureau of Land Management Roads 606 and 607;

Sec. 27, unsurveyed, that portion lying westerly of the westerly line of Bureau of Land Management Road 606 and northeasterly of the northerly right-of-way of the Mesquite Railroad Spur;

Sec. 28, unsurveyed, that portion lying northerly of the northerly right-of-way of Union Pacific Railroad and northeasterly of the northerly right-of-way of the Mesquite Railroad Spur;

Sec. 29, unsurveyed, that portion lying northeasterly of the northerly right-of-way of Union Pacific Railroad.

T. 12 S., R. 16 E.,

Sec. 11, that portion lying southeasterly of the south line of the unimproved unnamed range road;

Sec. 13, that portion lying northeasterly of the northerly right-of-way of Union Pacific Railroad;

Sec. 14, that portion lying southeasterly of the intersection of the south line of the unimproved unnamed range road and Ted Kipf Road and also lying northeasterly of the northerly right-of-way of Union Pacific Railroad;

Sec. 24, that portion lying northeasterly of the northerly right-of-way of Union Pacific Railroad.

T. 12 S., R. 17 E.,

Secs. 19, 29, 30, 32, 33, and 34, those portions lying northeasterly of the northerly right-of-way of Union Pacific Railroad.

T. 10 S., R. 14 E.,

Sec. 26, that portion lying northeasterly of the most easterly line of the Coachella Branch of the All American Canal.

T. 8 S., R. 16 E.,

Sec. 9, S½, unsurveyed, that portion lying southerly of southerly line of the Bradshaw Trail.

T. 7 S., R. 12 E.,

Sec. 34, SW¼ and SW¼SE¼, those portions lying southerly of the southerly line of the Bradshaw Trail;

Sec. 35, SW¼, that portion lying southerly of the southerly line of the Bradshaw Trail;

Sec. 36, N½SW¼, that portion lying between the southerly line of the Bradshaw Trail and northerly of the south bank of Salt Creek.

T. 7 S., R. 13 E.,

Sec. 13, NE¼SW¼, NW¼SW¼, NW¼SE¼, and SE¼SE¼, those portions lying southerly of the southerly line of the Bradshaw Trail;

Sec. 14, that portion lying southeasterly of the southerly line of the Bradshaw Trail;

Sec. 22, S½NW¼, that portion lying southeasterly of the southerly line of the Bradshaw Trail;

Sec. 31, NE¼, that portion lying southerly of the southerly line of the Bradshaw Trail and northerly of the south bank of the Salt Creek excepting therefrom that portion acquired by Civil 2054-Y.

T. 7 S., R. 14 E.,

Sec. 18, lots 3 and 4, E½SW¼, and SE¼, those portions lying southerly of the southerly line of the Bradshaw Trail;

Sec. 19, NE¼NE¼, E½E½SE¼NE¼, and E½E½NE¼SE¼, those portions lying southwesterly of the southerly line of the Bradshaw Trail;

Sec. 20, SW¼NW¼, NW¼SW¼, and SE¼SW¼, those portions lying southwesterly of the southerly line of the Bradshaw Trail.

T. 7 S., R. 15 E.,

Sec. 30, lot 3, that portion lying southerly of the south line of the Bradshaw Trail.

The Federal lands to be added to the existing withdrawal aggregate 24,700 acres, more or less, in Riverside and Imperial Counties.

The following described non-Federal lands are within the exterior boundaries of the CMAGR. If title to these non-Federal lands is subsequently acquired by the United States, the lands may be subject to the terms and conditions of an expanded and renewed withdrawal.

Non-Federal Lands That May Be Acquired in the Future

San Bernardino Meridian

T. 13 S., R. 18 E.,

Sec. 16.

T. 7 S., R. 12 E.,

Sec. 36, S½SW¼, that portion lying between the southerly line of the Bradshaw Trail and northerly of the south bank of Salt Creek excepting therefrom that portion of lands acquired by Civil 2054-Y.

T. 7 S., R. 13 E.,

Sec. 13, SW¼SW¼, and those portions of SE¼SW¼, SW¼SE¼, NE¼SE¼, and SW¼NW¼ lying southerly of the southerly line of the Bradshaw Trail;

Sec. 21, NE¼SE¼ and W½SW¼SE¼, those portions lying southerly of the southerly line of the Bradshaw Trail;

Sec. 23, N½N½NE¼, and those portions of N½N½NW¼ lying southerly of the southerly line of the Bradshaw Trail;

Sec. 29, that portion lying southerly and southeasterly of the southerly line of the Bradshaw Trail excepting therefrom SE¼SE¼.

T. 7 S., R. 14 E.,

Sec. 29, N½NW¼NE¼, that portion lying southerly of the southerly line of the Bradshaw Trail.

The non-Federal lands to be acquired aggregate 1,700 acres, more or less, in Riverside and Imperial Counties.

The total areas described contain approximately 249,800 acres of Federal lands and 1,700 acres of non-Federal lands in Riverside and Imperial Counties.

The application will be processed in accordance with the regulations set forth in 43 CFR part 2300.

The purpose of the proposed withdrawal extension would be to continue to protect and preserve the status quo of the lands pending action on an application for withdrawal for military purposes under the Engle Act (43 U.S.C. 155-158).

On or before June 25, 2013, all persons who wish to submit comments, suggestions, or objections in connection with the proposed withdrawal may present their views in writing to the BLM, Associate Deputy State Director, at the address indicated above.

Comments, including names and street addresses for respondents, will be available for public review at the BLM's California State Office, during regular business hours, 8:30 a.m. to 4:30 p.m., Monday through Friday, except holidays. Before including your address, telephone number, email address, or other personal identifying information in your comment, you should be aware that your entire comment—including your personal identifying information—may be publicly available at any time. While you can ask us in your comment to withhold your personal identifying information from public review, we cannot guarantee that we will be able to do so.

The BLM will hold a public meeting in connection with the proposed withdrawal extension on April 25, 2013, at the BLM's California Desert District Office, 22835 Calle San Juan de Los Largos, Moreno Valley, California, from 9 a.m. until 2 p.m. The BLM will publish a notice of the time and place in at least one local newspaper no less than 30 days before the scheduled meeting date.

For a period until March 27, 2015, the additional Federal lands of approximately 24,700 acres will be segregated from all forms of appropriation under the public land laws, including the United States mining laws, and from the operation of the mineral and geothermal leasing laws, and the Mineral Materials Act of 1947, unless the application is denied or canceled or the withdrawal is approved prior to that date.

Licenses, permits, cooperative agreement, or discretionary land use authorizations of a temporary nature which will not significantly impact the values to be protected by the withdrawal may be allowed with the approval of the authorized officer of the BLM during the temporary segregative period.

No water rights would be needed to fulfill the purpose of the requested withdrawal extension.

Records relating to the application may be examined at the California State Office at the address stated above.

Authority: 43 CFR 2310.3-1.

Cynthia Staszak,
Associate Deputy State Director, Natural Resources CA-930.

[FR Doc. 2013-07045 Filed 3-26-13; 8:45 am]

BILLING CODE 3810-FF-P